DEPARTMENT OF ENERGY

Federal Energy Regulatory Commission

[Project No. 14227-003]

Nevada Hydro Company, Inc.; Notice of Application Tendered for Filing With the Commission and Soliciting Additional Study Requests

Take notice that the following hydroelectric application has been filed with the Commission and is available for public inspection.

a. Type of Application: Major Unconstructed Project.

b. Project No.: P-14227-003.

c. Date filed: October 2, 2017.

d. Applicant: Nevada Hydro Company, Inc.

e. Name of Project: Lake Elsinore Advanced Pumped Storage (LEAPS) Project.

f. Location: On Lake Elsinore and San Juan Creek near the town of Lake Elsinore in Riverside and San Diego counties, California. The project would occupy about 845 acres of federal land.

g. Filed Pursuant to: 18 CFR part 4 of the Commission's Regulations.

h. Applicant Contact: Rexford Wait, Nevada Hydro Company, Inc., 2416 Cades Way Vista, California (760) 599-1815.

i. FERC Contact: Jim Fargo at (202) 502-6095 or email at james.fargo@ferc.gov.

j. Cooperating agencies: Federal, state, local, and tribal agencies with jurisdiction and/or special expertise with respect to environmental issues that wish to cooperate in the preparation of the environmental document should follow the instructions for filing such requests described in item m below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: December 1, 2017

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street, NE., Washington, DC 20426. The first page of any filing should include docket number P-14227-003.

m. The application is not ready for environmental analysis at this time.

n. The proposed project would consist of the following: (1) A new upper reservoir (Decker Canyon) with a 200-foot-high main dam and a gross storage volume of 5,750 acre-feet at a normal reservoir surface elevation of 2,792 feet above mean sea level (msl); (2) a single 21-foot-diameter concrete power shaft and power tunnel with two steel lined penstocks; (3) an underground powerhouse with two reversible pump-turbine units with a total installed capacity of 500 megawatts; (4) an existing lower reservoir (Lake Elsinore) with a gross storage volume of 54,500 acre-feet at a normal reservoir surface elevation of 1,245 feet above msl; (5) about 32 miles of 500-kV transmission line connecting the project to an existing transmission line owned by Southern California Edison located north of the proposed project and to an existing San Diego Gas & Electric Company transmission line located to the south.

o. The license application and associated filings are available for review at the Commission in the Public Reference Room or may be viewed on the Commission's Web site (http://www.ferc.gov), using the eLibrary link. Enter the docket number, excluding the last three digits in the docket number field to access the document. For assistance, contact FERC Online Support at FERCOnlineSupport@ferc.gov, (866) 208-3676 (toll free), or (202) 502-8659 (TTY). A copy is also available for inspection and reproduction at the address in paragraph m.

Register online at http://www.ferc.gov/docs-filing/esubscription.asp to be notified via email of new filing and issuances related to this or other pending projects. For assistance, contact FERC Online Support.

p. With this notice, we are designating Nevada Hydro, Inc. as the Commission's non-federal representative for carrying out informal consultation pursuant to section 7 of the Endangered Species Act and section 305(b) of the Magnuson-Stevens Fishery Conservation and Management Act; and consultation pursuant to section 106 of the National Historic Preservation Act.

q. Post-filing process: The major milestones of the post-filing process for the LEAPS Project are provided below. The issuance of the Ready for Environmental Analysis (REA) Notice and subsequent milestones will not occur until the additional information needs of Commission staff on the final license application have been satisfied, which may include the completion of any needed additional studies. The milestones that provide opportunities for stakeholder input are highlighted in bold.

• Additional study requests due

• Issue Scoping Document 1 for comments

• Public Scoping Meetings

• Comments on Scoping Document 1 due

• Issue Scoping Document 2 (if necessary)

• Issue REA Notice soliciting comments, recommendations, terms and conditions, and prescriptions

• Comments, recommendations, terms and conditions, and prescriptions due

• Issue updated EIS

• Comments on updated EIS due

• Issue final EIS (if necessary)

Dated: October 11, 2017.
Kimberly D. Bose,
Secretary.

[FR Doc. 2017-22473 Filed 10-16-17; 8:45 am]

BILLING CODE 6717-01-P